DEPARTMENT OF ENERGY

Federal Energy Regulatory Commission

Sunshine Act Meeting

July 2, 2003.

The following notice of meeting is published pursuant to section 3(a) of the government in the Sunshine Act (Pub. L. No. 94-409), 5 U.S.C 552B:

AGENCY HOLDING MEETING: Federal Energy Regulatory Commission.

DATE AND TIME: July 9, 2003 10 a.m.

PLACE: Room 2C, 888 First Street, NE., Washington, DC 20426.

STATUS: Open.

MATTERS TO BE CONSIDERED: Agenda.

Note: Items listed on the agenda may be deleted without further notice.

CONTACT PERSON FOR MORE INFORMATION: Magalie R. Salas, Secretary, Telephone (202) 502-8400, for a recording listing items stricken from or added to the meeting, call (202) 502-8627.

This is a list of matters to be considered by the commission. It does not include a listing of all papers relevant to the items on the agenda; however, all public documents may be examined in the reference and information center.

834TH—Meeting July 9, 2003; Regular Meeting 10 a.m.

Administrative Agenda

A-1.

Docket# AD02-1, 000, Agency Administrative Matters

A-2.

Docket# AD02-7, 000, Customer Matters, Reliability, Security and Market Operations

A-3.

Docket#, Summer Energy Market Assessment Report

Markets, Tariffs and Rates—Electric

E-1.

Docket# EL03-116, 000, Reliant Energy Mid-Atlantic Power Holdings, LLC v. PJM Interconnection, L.L.C.

E-2.

Omitted

E-3.

Docket# ER03-851, 000, Entergy Services, Inc

E-4.

Docket# ER03-849, 000, ISO New England Inc.

E-5.

Docket# ER03-713, 000, Southern Power Company

Other#s ER03-713, 001, Southern Power Company

E-6.

Docket# ER03-48, 000, Tampa Electric Company

E-7.

Docket# ER02-199, 000, Mississippi Power Company

Other#s EL02-50, 000, Southern Company Services, Inc.

ER02-218, 000, Southern Company Services, Inc.

ER02-219, 000, Southern Company Services, Inc.

ER02-220, 000, Southern Company Services, Inc.

ER02-221, 000, Southern Company Services, Inc.

ER02-222, 000, Southern Company Services, Inc.

ER02-223, 000, Southern Company Services, Inc.

ER02-224, 000, Southern Company Services, Inc.

ER02-225, 000, Southern Company Services, Inc.

ER02-226, 000, Southern Company Services, Inc.

ER02-227, 000, Georgia Power Company

ER02-228, 000, Georgia Power Company

ER02-229, 000, Alabama Power Company

ER02-230, 000, Alabama Power Company

ER02-498, 000, Gulf Power Company

ER02-788, 000, Gulf Power Company

E-8.

Docket# ER02-994, 003, Duke Energy Corporation

E-9.

Docket# ER03-347, 000, Arizona Public Service Company

E-10.

Docket# ER02-2170, 000, Aquila, Inc.

Other#s ER02-2170, 001, Aquila, Inc.

E-11.

Docket# ER02-871, 000, Midwest Independent Transmission System Operator, Inc.

E-12.

Docket# ER03-843, 000, Entergy Services Inc.

Other#s EL03-124, 000, Southwestern Power Administration (United States Department of Energy)

E-13.

Omitted

E-14.

Omitted

E-15.

Docket# EL03-118, 001, Wilbur Power LLC

Other#s QF83-168, 006, Crown Zellerbach Corporation, et al.

E-16.

Docket# ER00-2019, 001, California Independent System Operator Corporation

E-17.

Docket# ER02-2463, 002, ISO New England Inc.

Other#s ER02-2463, 003, ISO New England Inc.

E-18.

Docket# ER03-194, 002, PJM Interconnection, L.L.C.

Other#s ER03-309, 001, Allegheny Power

ER03-309, 002, Allegheny Power

E-19.

Omitted

E-20.

Omitted

E-21.

Docket# ER01-2201, 003, Entergy Services, Inc.

Other#s EL02-46, 002, Generator Coalition v. Entergy Services, Inc.

E-22.

Docket# RM00-7, 009, Revision of Annual Charges Assessed to Public Utilities

E-23.

Docket# ER03-210, 002, New England Power Pool

Other#s ER03-210, 003, New England Power Pool

E-24.

Docket# ER03-13, 003, New York Independent System Operator, Inc.

Other#s ER03-13, 004, New York Independent System Operator, Inc.

E-25.

Omitted

E-26.

Docket# EL02-1, 000, Golden Spread Electric Cooperative, Inc. v. Southwestern Public Service Company

Other#s EL02-21, 000, Southwestern Public Service Company v. Golden Spread Electric Cooperative, Inc.

E-27.

Docket# EL03-55, 000, AES Warrior Run, Inc. v. Potomac Edison Company, d/b/a Allegheny Power

E-28.

Docket# EL03-56, 000, American Municipal Power-Ohio, Inc. v. Dayton Power and Light Company and PJM Interconnection, LLC

E-29.

Omitted

E-30.

Docket# EL03-127, 000, Commonwealth Edison Company v. Midwest Generation, L.L.C.

E-31.

Omitted

E-32.

Docket# ER03-358, 002, Pacific Gas and Electric Company

Markets, Tariffs and Rates—Gas

G-1.

Docket# RP00-336, 006, El Paso Natural Gas Company

Other#s RP00-139, 004, KN Marketing, L.P. v. El Paso Natural Gas Co.

RP01-484, 002, Aera Energy, LLC, et al., v. El Paso Natural Gas Co.

RP01-486, 002, Texas, New Mexico and Arizona Shippers v. El Paso Natural Gas Co.

G-2.

Docket# RP00-336, 010, El Paso Natural Gas Company

Other#s RP00-336, 011, El Paso Natural Gas Company

RP00-336, 012, El Paso Natural Gas Company

G-3.

Docket# PL02-6, 000, Natural Gas Pipeline Negotiated Rate Policies and Practices

G-4.

Docket# RP96-200, 104, CenterPoint Energy Gas Transmission Company

G-5.

Docket# RP03-509, 000, Tennessee Gas Pipeline Company

G-6.

Docket# RP00-482, 005, CenterPoint Energy Gas Transmission Company

G-7.

Docket# RP98-40, 034, Panhandle Eastern Pipe Line Company

G-8.

Docket# RP02-515, 001, Texas Gas Transmission Corporation

G-9.

Docket# RP98-39, 030, Northern Natural Gas Company

G-10.

Docket# RP00-477, 002, Tennessee Gas Pipeline Company

Other#s RP98-99, 007, Tennessee Gas Pipeline Company

RP98-99, 008, Tennessee Gas Pipeline Company

RP00-477, 003, Tennessee Gas Pipeline Company

RP01-18, 002, Tennessee Gas Pipeline Company

RP01-18, 003, Tennessee Gas Pipeline Company

RP03-183, 000, Tennessee Gas Pipeline Company

G-11.

Omitted

G-12.

Docket# RP00-535, 008, Texas Eastern Transmission, LP

G-13.

Docket# RP02-562, 003, Mississippi River Transmission Corporation

Other#s RP02-562, 004, Mississippi River Transmission Corporation

G-14.

Docket# RP98-39, 031, Northern Natural Gas Company

G-15.

Docket# OR98-11, 002, SFPP, L.P.

Other#s OR96-2, 002, SFPP, L.P.

OR96-10, 002, SFPP, L.P.

OR96-17, 002, SFPP, L.P.

OR98-1, 002, SFPP, L.P.

G-16.

Docket# RP02-23, 000, El Paso Natural Gas Company v. Phelps Dodge Corporation

Energy Projects—Hydro

H-1.

Docket# P-400, 039, Willard Janke v. Public Service Company of Colorado

H-2.

Omitted

H-3.

Docket# P-2016, 056, City of Tacoma, Washington

Energy Projects—Certificates

C-1.

Docket# CP03-31, 000, Paiute Pipeline Company

C-2.

Docket# CP02-4, 003, Northwest Pipeline Corporation

C-3.

Docket# CP02-416, 001, Southern Star Central Gas Pipeline, Inc.

Other#s CP02-416, 000, Southern Star Central Gas Pipeline, Inc.

Magalie R. Salas,
Secretary.

[FR Doc. 03-17534 Filed 7-7-03; 3:52 pm]

BILLING CODE 6717-01-P